DEPARTMENT OF COMMERCE

National Oceanic and Atmospheric Administration

50 CFR Part 300

RIN 0648-XC965

Fraser River Sockeye and Pink Salmon Fisheries; Inseason Orders

AGENCY: National Marine Fisheries Service (NMFS), National Oceanic and Atmospheric Administration (NOAA), Commerce.

ACTION: Temporary orders; inseason orders.

SUMMARY: NMFS publishes Fraser River salmon inseason orders to regulate treaty and non-treaty (all citizen) commercial salmon fisheries in U.S. waters. The orders were issued by the Fraser River Panel (Panel) of the Pacific Salmon Commission (Commission) and subsequently approved and issued by NMFS during the 2013 salmon fisheries within the U.S. Fraser River Panel Area. These orders established fishing dates, times, and areas for the gear types of U.S. treaty Indian and all citizen commercial fisheries during the period the Panel exercised jurisdiction over these fisheries.

DATES: The effective dates for the inseason orders are set out in this document under the heading Inseason Orders.

FOR FURTHER INFORMATION CONTACT: Peggy Mundy at 206-526-4323.

SUPPLEMENTARY INFORMATION: The Treaty between the Government of the United States of America and the Government of Canada concerning Pacific Salmon was signed at Ottawa on January 28, 1985, and subsequently was given effect in the United States by the Pacific Salmon Treaty Act (Act) at 16 U.S.C. 3631-3644.

Under authority of the Act, Federal regulations at 50 CFR part 300, subpart F provide a framework for the implementation of certain regulations of the Commission and inseason orders of the Commission's Fraser River Panel for U.S. sockeye salmon fisheries in the Fraser River Panel Area.

The regulations close the U.S. portion of the Fraser River Panel Area to U.S. sockeye and pink salmon tribal and non-tribal commercial fishing unless opened by Panel orders that are given effect by inseason regulations published by NMFS. During the fishing season, NMFS may issue regulations that establish fishing times and areas consistent with the Commission agreements and inseason orders of the Panel. Such orders must be consistent with domestic legal obligations and are issued by Regional Administrator, West Coast Region, NMFS. Official notification of these inseason actions is provided by two telephone hotline numbers described at 50 CFR 300.97(b)(1) and in 77 FR 25915 (May 2, 2012). The inseason orders are published in the Federal Register as soon as practicable after they are issued. Due to the frequency with which inseason orders are issued, publication of individual orders is impractical. Therefore, the 2013 orders are being published in this single document to avoid fragmentation.

Inseason Orders

The following inseason orders were adopted by the Panel and issued for U.S. fisheries by NMFS during the 2013 fishing season. Each of the following inseason actions was effective upon announcement on telephone hotline numbers as specified at 50 CFR 300.97(b)(1) and in 78 FR 25865 (May 3, 2013); those dates and times are listed herein. The times listed are local times, and the areas designated are Puget Sound Management and Catch Reporting Areas as defined in the Washington State Administrative Code at Chapter 220-22.

Fraser River Panel Order Number 2013-01: Issued 2 p.m., July 29, 2013

Treaty Indian Fishery

Areas 4B, 5, and 6C: Open to drift gillnets 12 p.m. (noon), Tuesday, July 30, 2013, to 12 p.m. (noon), Saturday, August 3, 2013.

Fraser River Panel Order Number 2013-02: Issued 12:30 p.m., August 2, 2013

Treaty Indian Fishery

Areas 4B, 5, and 6C: Extend for drift gillnets from 12 p.m. (noon), Saturday, August 3, 2013, to 12 p.m. (noon), Wednesday, August 7, 2013.

Fraser River Panel Order Number 2013-03: Issued 2:30 p.m., August 6, 2013

Treaty Indian Fishery

Areas 4B, 5, and 6C: Extend for drift gillnets from 12 p.m. (noon), Wednesday, August 7, 2013 to 12 p.m. (noon), Saturday, August 10, 2013.

Fraser River Panel Order Number 2013-04: Issued 2:30 p.m., August 23, 2013

Treaty Indian Fishery

Areas 4B, 5, and 6C: Open for drift gillnets from 12 p.m. (noon), Saturday, August 24, 2013 to 12 p.m. (noon), Wednesday, August 28, 2013.

Areas 6, 7, and 7A: Open for net fishing from 5 a.m., Sunday, August 25, 2013 to 9 a.m., Tuesday, August 27, 2013 in the area southerly and easterly of a straight line drawn from Iwersen's dock on Point Roberts in the State of Washington to the Georgina Point Light at the entrance to Active Pass in the Province of British Columbia.

All Citizen Fishery

Area 7: Open to reefnets with non-retention of sockeye salmon from 5 a.m. to 9 p.m., Saturday, August 24, 2013 and Sunday, August 25, 2013.

Areas 7 and 7A: Open to purse seines with non-retention of sockeye from 5 a.m. to 9 p.m., Tuesday, August 27, 2013 in the area southerly and easterly of a straight line drawn from Iwersen's dock on Point Roberts in the State of Washington to the Georgina Point Light at the entrance to Active Pass in the Province of British Columbia.

Areas 7 and 7A: Open to gillnets with non-retention of sockeye from 8 a.m. to 11:59 p.m. (midnight), Tuesday, August 27, 2013 in the area southerly and easterly of a straight line drawn from Iwersen's dock on Point Roberts in the State of Washington to the Georgina Point Light at the entrance to Active Pass in the Province of British Columbia.

Fraser River Panel Order Number 2013-05: Issued 2:05 p.m., August 27, 2013

Treaty Indian Fishery

Areas 4B, 5, and 6C: Extend for drift gillnets from 12 p.m. (noon), Wednesday August 28, 2013 to 12 p.m. (noon), Friday August 30, 2013. Sockeye may be retained for ceremonial and subsistence purposes only.

Areas 6, 7, and 7A: Open for net fishing from 5 a.m., Wednesday, August 28 through 9 a.m., Friday, August 30, 2013 in the area southerly and easterly of a straight line drawn from Iwersen's dock on Point Roberts in the State of Washington to the Georgina Point Light at the entrance to Active Pass in the Province of British Columbia. Purse seines must release all sockeye. Gillnets may retain sockeye for ceremonial and subsistence purposes only.

All Citizen Fishery

Area 7: Open to reefnets with non-retention of sockeye from 5 a.m. to 9 p.m., Wednesday, August 28, 2013, Thursday, August 29, 2013 and Friday, August 30, 2013.

Areas 7 and 7A: Open to purse seines with non-retention of sockeye from 5 a.m. to 9 p.m., Friday, August 30, 2013 in the area southerly and easterly of a straight line drawn from Iwersen's dock on Point Roberts in the State of Washington to the Georgina Point Light at the entrance to Active Pass in the Province of British Columbia.

Areas 7 and 7A: Open to gillnets with non-retention of sockeye from 8 a.m. to 11:59 p.m. (midnight), Friday, August 30, 2013 in the area southerly and easterly of a straight line drawn from Iwersen's dock on Point Roberts in the State of Washington to the Georgina Point Light at the entrance to Active Pass in the Province of British Columbia.

Fraser River Panel Order Number 2013-06: Issued 1:35 p.m., August 29, 2013

Treaty Indian Fishery

Areas 4B, 5, and 6C: Extend for drift gillnets from 12 p.m. (noon), Friday August 30, 2013 to 12 p.m. (noon), Wednesday, September 4, 2013. Sockeye may be retained for ceremonial and subsistence purposes only.

Areas 6, 7, and 7A: Open for net fishing from 5 a.m., Saturday, August 31 through 9 a.m., Monday, September 2, 2013, and from 5 a.m., Tuesday, September 3 through 9 a.m., Wednesday, September 4 in the area southerly and easterly of a straight line drawn from Iwersen's dock on Point Roberts in the State of Washington to the Georgina Point Light at the entrance to Active Pass in the Province of British Columbia. Sockeye may be retained for ceremonial and subsistence purposes only.

All Citizen Fishery

Area 7: Open to reefnets with non-retention of sockeye from 5 a.m. to 9 p.m., Saturday, August 31, 2013, Sunday, September 1, 2013, Monday, September 2, 2013, and Tuesday, September 3, 2013.

Areas 7 and 7A: Open to purse seines with non-retention of sockeye from 5 a.m. to 9 p.m., Monday, September 2, 2013 in the area southerly and easterly of a straight line drawn from Iwersen's dock on Point Roberts in the State of Washington to the Georgina Point Light at the entrance to Active Pass in the Province of British Columbia.

Areas 7 and 7A: Open to gillnets with non-retention of sockeye from 8 a.m. to 11:59 p.m. (midnight), Monday, September 2, 2013 in the area southerly and easterly of a straight line drawn from Iwersen's dock on Point Roberts in the State of Washington to the Georgina Point Light at the entrance to Active Pass in the Province of British Columbia.

Fraser River Panel Order Number 2013-07: Issued 3 p.m., September 3, 2013

Treaty Indian Fishery

Areas 4B, 5, and 6C: Extend for drift gillnets from 12 p.m. (noon), Wednesday, September 4, 2013 to 12 p.m. (noon), Saturday, September 7, 2013. Sockeye may be retained for ceremonial and subsistence purposes only.

Areas 6, 7, and 7A: Extend for net fishing from 9 a.m., Wednesday, September 4, 2013 through 9 a.m., Thursday, September 5, 2013 and open from 5 a.m., Friday, September 6, 2013 through 9 a.m., Saturday, September 7, 2013. Sockeye may be retained for ceremonial and subsistence purposes only.

All Citizen Fishery

Area 7: Open to reefnets with non-retention of sockeye from 5 a.m. to 9 p.m., Wednesday, September 4, 2013, Thursday, September 5, 2013, and Friday, September 6, 2013.

Areas 7 and 7A: Open to purse seines with non-retention of sockeye from 5 a.m. to 9 p.m., Thursday, September 5, 2013.

Areas 7 and 7A: Open to gillnets with non-retention of sockeye from 8:10 a.m. to 11:59 p.m. (midnight), Thursday, September 5, 2013.

Fraser River Panel Order Number 2013-08: Issued 12:30 p.m., September 6, 2013

Treaty Indian Fishery

Areas 4B, 5, and 6C: Extend for drift gillnets from 12 p.m. (noon), Saturday, September 7, 2013 through 12 p.m. (noon), Wednesday, September 11, 2013. Sockeye may be retained for ceremonial and subsistence purposes only.

Areas 6, 7, and 7A: Extend for net fishing from 9 a.m., Saturday, September 7, 2013 through 9 a.m., Monday, September 9, 2013, and open for net fishing from 5 a.m., Tuesday, September 10 through 9 a.m., Wednesday, September 11, 2013. Sockeye may be retained for ceremonial and subsistence purposes only.

All Citizen Fishery

Area 7: Open to reefnets with non-retention of sockeye from 5 a.m. to 9 p.m., Saturday, September 7, 2013, Sunday September 8, 2013, Monday, September 9, 2013, and Tuesday, September 10, 2013.

Areas 7 and 7A: Open to purse seines with non-retention of sockeye from 5 a.m. to 9 p.m., Monday, September 9, 2013.

Areas 7 and 7A: Open to gillnets with non-retention of sockeye from 8:15 a.m. to 11:59 p.m. (midnight), Monday, September 9, 2013.

Fraser River Panel Order Number 2013-09: Issued 12:25 p.m., September 10, 2013

Treaty Indian Fishery

Areas 4B, 5, and 6C: Extend for drift gillnets from 12 p.m. (noon), Wednesday, September 11, 2013 through 12 p.m. (noon), Saturday, September 14, 2013. Sockeye may be retained for ceremonial and subsistence purposes only.

Areas 6, 7, and 7A: Extend for net fishing from 9 a.m., Wednesday, September 11, 2013 through 9 a.m., Friday, September 13, 2013. Sockeye may be retained for ceremonial and subsistence purposes only.

All Citizen Fishery

Area 7: Open to reefnets with non-retention of sockeye from 5 a.m. to 9 p.m., Wednesday, September 11, 2013, Thursday, September 12, 2013, and Friday, September 13, 2013.

Areas 7 and 7A: Open to purse seines with non-retention of sockeye from 8:30 a.m. to 4:30 p.m., Friday, September 13, 2013.

Areas 7 and 7A: Open to gillnets with non-retention of sockeye from 8:20 a.m. to 11:59 p.m. (midnight), Friday, September 13, 2013.

Fraser River Panel Order Number 2013-10: Issued 3:45 p.m., September 13, 2013

Treaty Indian Fishery

Areas 4B, 5, and 6C: Extend for drift gillnets from 12 p.m. (noon), Saturday, September 14, 2013 through 12 p.m. (noon), Wednesday, September 18, 2013. Sockeye may be retained for ceremonial and subsistence purposes only.

Areas 6, 7, and 7A: Open for net fishing from 5 a.m., Saturday, September 14, 2013 through 12 p.m. (noon), Tuesday, September 17, 2013. Sockeye may be retained for ceremonial and subsistence purposes only.

All Citizen Fishery

Area 7: Open to reefnets with non-retention of sockeye from 5 a.m. to 9 p.m., daily from Saturday, September 14, 2013 until further notice.

Fraser River Panel Order Number 2013-11: Issued 12:30 p.m., September 17, 2013

Treaty Indian and All Citizen Fisheries

Areas 4B, 5, and 6C: Relinquish regulatory control effective 12:01 p.m., Wednesday September 18, 2013.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: November 13, 2013.
Kelly Denit,
Acting Deputy Director, Office of Sustainable Fisheries, National Marine Fisheries Service.

[FR Doc. 2013-27493 Filed 11-15-13; 8:45 am]

BILLING CODE 3510-22-P